ENVIRONMENTAL PROTECTION AGENCY

[FRL-7127-7]

Maryland State Prohibition on Discharges of Vessel Sewage; Final Affirmative Determination

AGENCY: Environmental Protection Agency (EPA).

ACTION: Notice.

SUMMARY: Notice is hereby given that the Regional Administrator, Environmental Protection Agency (EPA) Region III has affirmatively determined, pursuant to section 312(f) of Public Law 92-500, as amended by Public Law 95-217 and Public Law 100-4 (the Clean Water Act), that adequate facilities for the safe and sanitary removal and treatment of sewage from all vessels are reasonably available for the navigable waters of Herring Bay, Anne Arundel County, and the northern Coastal Bays (Ocean City Inlet, Ocean City commercial fish harbor (Swordfish Basin), Isle of Wight Bay and Assawoman Bay), Worcester County, Maryland. Maryland will completely prohibit the discharge of sewage, whether treated or not, from any vessel in Herring Bay and in the northern Coastal Bays.

FOR FURTHER INFORMATION CONTACT: Edward Ambrogio, U.S. Environmental Protection Agency, Region III, Office of Ecological Assessment and Management, 1650 Arch Street, Philadelphia, PA 19103. Telephone: (215) 814-2758. Fax: (215) 814-2782. E-mail: ambrogio.edward@epa.gov.

SUPPLEMENTARY INFORMATION: These petitions were made jointly by the Maryland Department of the Environment (MDE) and the Maryland Department of Natural Resources (MDNR). Upon publication of this affirmative determination, Maryland will completely prohibit the discharge of sewage, whether treated or not, from any vessel in Herring Bay and in the northern Coastal Bays (Ocean City Inlet, Ocean City commercial fish harbor (Swordfish Basin), Isle of Wight Bay and Assawoman Bay) in accordance with section 312(f)(3) of the Clean Water Act and 40 CFR 140.4(a). Notice of the Receipt of Petition and Tentative Determination was published in the Federal Register on October 17, 2001 (66 FR 52763, Oct. 17, 2001). Comments on the tentative determination were accepted during the 30-day comment period which closed on November 16, 2001. No comments were received. The remainder of this Notice summarizes the location of the no discharge zone, the available pumpout facilities and related information.

Herring Bay

The Herring Bay no discharge zone (NDZ) is a 3,145-acre area of water located along the western shore of the Chesapeake Bay in southern Anne Arundel County. The area includes Rockhold, Tracy, and Parker Creeks on the north and Rose Haven Harbor on the south. The NDZ includes tidal waters west of the following: beginning on Holland Point at or near 38°43′34.9″N latitude/76°31′37.3″W longitude, then running in a northerly direction to Crab Pile A at or near 38°46′33.0″N latitude/76°32′10.1″ W longitude, then running to a point on the north shore of Parkers Creek at or near 38°46′39.1″N latitude/76°32′10.8″W longitude.

The Herring Bay watershed is approximately 25 square miles. Although traditionally a farming area, several residential communities are located within the watershed including some that are located along the shoreline. Herring Bay is also a very popular recreational boating area and is home to 16 marinas containing 2,090 slips.

Long-term pollution problems that have impacted Herring Bay include failing septic systems, discharge from a private sewage treatment plant, and runoff from farm and other lands. With the number of marinas in the area, recreational boating is also a concern. The potential for bacterial contamination from all sources of pollution, including boat sewage, has resulted in the on-going closure of the oyster beds, however, recent water quality data does not show consistent high levels of fecal coliform in the area.

Currently, there are no public or private sewage treatment plants that impact Herring Bay. Although the Broadwater Wastewater Treatment Plant is north of Herring Bay and the Chesapeake Beach Wastewater Treatment Plant is south of Herring Bay, neither plant's discharges affect Herring Bay. Until very recently, there had, however, been a private treatment plant at Rose Haven which discharged into Herring Bay. That plant is now closed and the sewage from Rose Haven currently goes to the Chesapeake Beach Wastewater Treatment Plant.

Information submitted in the application states that there are a total of nine pumpout facilities currently in Herring Bay, of which eight provide portable toilet disposal through the use of a wand attachment to the pumpout hose. Eight of the nine pumpout facilities currently available to the general public are located at six marinas. Each of the six marinas is a privately owned facility that used Clean Vessel Act (75%) and state funds (25%) to install their pumpouts. Each facility that is open to the general public is limited to charging no more than $5.00 per pumpout. One of the nine pumpouts is located at a 61-slip marina and is only available to slipholders. To provide a conservative estimate of pumpout availability, this private pumpout was not included in the application's calculations. Also not included were two additional marinas that have applied for grant funding to install pumpouts which should become operational during the 2001 boating season. For the purposes of this application, therefore, there are a total of eight pumpouts in Herring Bay, of which seven provide portable toilet disposal. Maryland's boating season is generally considered to be from April 15 to November 15, with very little recreational boating activity occurring in the winter. For the few boats in Herring Bay that may need to be pumped out in the off-season, both of Herrington Harbour North's pumpouts and one of Herrington Harbour South's pumpouts are open throughout the year. The other pumpouts are open during the boating season only. For those marinas with wand attachments (all facilities except Sherman's), portable toilets may be emptied whenever the pumpouts are open. Details of these facilities' location, availability and hours of operation are as follows:

Gates Marine Services is an 88-slip facility located on Rockhold Creek north of the Deale Road bridge. The marina has a trailer mounted pumpout installation located at the travel lift. A wand attachment is used to empty portable toilets. The marina's sewage disposal hours of operation are 8:00 am-4:30 pm Monday through Friday, 8:00 am-4 pm Saturday and Sunday.

Harbor Cove Marina is a 78-slip facility located on Rockhold Creek north of the Deale Road bridge. The marina has a fixed pumpout installation which is located at the gas dock (“C” dock). A wand attachment is used to empty portable toilets. The marina's sewage disposal hours of operation are 8:00 am-6:00 pm seven days per week.

Herrington Harbour North is a 670-slip marina located at the junction of Rockhold Creek and Tracy Creek in northern Herring Bay. The marina has a fixed pumpout installation which is located on the T head of “D” Dock and it also has a portable pumpout that is used for pumpouts throughout the marina. Both pumpouts utilize wand attachments to empty portable toilets. The marina's sewage disposal hours of operation are 9:00 am-5:00 pm seven days per week.

Herrington Harbour South is a 650-slip marina located on Rose Haven Harbor in southern Herring Bay. The marina has a fixed pumpout installation which is located on the fuel dock (“D” Dock) and it also has a pumpout boat that travels throughout the marina pumping out both slip holders and transient vessels. Both pumpouts utilize wand attachments to empty portable toilets. The marina's sewage disposal hours of operation are 24 hours daily (self-serve) seven days per week, staffed 8:00 am-6:00 pm seven days per week between May 31 and September 7.

Sherman's Marina is a 26-slip facility located on Rockhold Creek north of the Deale Road bridge. The marina has a fixed pumpout installation which is located on the “B” dock. The marina's sewage disposal hours of operation are during daylight hours seven days per week.

Shipwright Harbor is a 250-slip facility located at the mouth of Rockhold Creek in northern Herring Bay. The marina has a fixed pumpout installation which is located near the travel lift. A wand attachment is used to empty portable toilets. The marina's sewage disposal hours of operation are 9:00 am-5:00 pm seven days per week.

Under Maryland law (Natural Resources Article § 8-707), each grant funded pumpout project must be approved by MDE. The MDE, in turn, consults with the local health/permitting authority to ensure that the proposed pumpout and sewage disposal method is in compliance with all applicable Federal and state laws. All six of the marinas in Herring Bay that have pumpouts open to the public, used grant funding to obtain their pumpouts (a total of eight pumpout facilities). All of these projects were approved by MDE upon the recommendation of the Anne Arundel County Department of Utilities. All six marinas discharge to either the Chesapeake Beach Wastewater Treatment Plant, or to the Broadwater Wastewater Treatment Plant via either a direct connection, or by a licensed septage hauler.

The MDNR maintains records on the number and size of vessels registered and documented in Maryland's waters. In an attempt to estimate transient vessels in the area, a representative of the two largest marinas in Herring Bay was contacted and asked to estimate how many transient vessels, by size, are typically in Herring Bay on a typical high-volume day during the boating season. Included in the number of registered vessels are charter boats generally used for fishing. From this information, the vessel population of Herring Bay based on length is 638 vessels less than16 feet, 906 vessels between 16 and 26 feet, 1,111 vessels between 26 and 40 feet, and 158 vessels over 40 feet. Based on the number and size of boats, and using various methods to estimate the number of on-board holding tanks and portable toilets, it was determined that Herring Bay needs a total of five pumpouts and one dump station. As described above, Herring Bay is currently served by eight operational pumpouts, of which seven provide portable toilet disposal. Additionally, two other marinas (Paradise Marina and Rockhold Creek Marina) are actively participating in the pumpout grant program and should complete their installations by the start of the next boating season in early 2002.

Northern Coastal Bays

The proposed northern Coastal Bays no discharge zone (NDZ) was initially described to include all tidal waters north of the Ocean City Inlet, including Isle of Wight Bay and Assawoman Bay, defined by the points 38°19′23.83″N latitude/75°5′14.36″W longitude to 38°19′35.77″N latitude/75°06′27.68″W longitude, to the Delaware state line. Based upon a reevaluation of the spacial coordinates by MDNR, this NDZ has been slightly expanded and now includes the waters of the Ocean City Inlet, Ocean City commercial fish harbor (Swordfish Basin), Isle of Wight Bay and Assawoman Bay, defined as follows: Ocean City Inlet—west of a line beginning at a point at or near the east end of the north Ocean City Inlet jetty, defined by 38°19′27.0″N latitude/75° 05′5.5″W longitude; then running approximately 248° (true) to a point at or near the east end of the south Ocean City Inlet jetty, defined by 38°19′20.7″N latitude/75°05′24.9″W longitude; and, Sinepuxent Bay—north of a line beginning at a point at or near the shore of the southeast entrance of the Ocean City commercial fish harbor (Swordfish Basin), defined by 38°19′37.0″N latitude/75°06′ 6.0″W longitude; then running approximately 110° (true) to a point at or near the shore at the northwest tip of Assateague Island, defined by 38°19′32.0″N latitude/75°05′49.0″W longitude; and, Maryland-Delaware Line—south of the Maryland-Delaware line beginning at a point at or near the east side of Assawoman Bay, defined by 38°27′4.5″N latitude/75°04′11.2″W longitude; then running approximately 270° (true) to a point at or near the west side of Assawoman Bay, defined by 38°27′4.4″N latitude/75°05′9.3″W longitude.

The Maryland Coastal Bays are comprised of five large tidal bays (Assawoman, Isle of Wight, Sinepuxent, Newport, and Chincoteague) that are bounded by two barrier islands (Fenwick and Assateague). The drainage basin feeding into the watershed is 117,939 acres and is characterized by poor flushing ability due to two narrow inlets. The land surrounding the northern Coastal Bays (Ocean City Inlet, Ocean City commercial fish harbor (Swordfish Basin), Isle of Wight Bay and Assawoman Bay) is primarily agriculture, forested or marsh but also includes the largest percentage of developed land surrounding all five Coastal Bays (Ocean Pines and Ocean City). The population of Worcester County is expected to increase significantly over the next 10 years and reach 50,000 before the year 2010. Currently, Worcester County is the second fastest growing county in the state.

In 1996 the MDE listed the northern Coastal Bays (specifically Assawoman and Isle of Wight) on the Clean Water Act Section 303(d) impaired waters list as a priority area for excessive nutrients, low dissolved oxygen, and elevated fecal coliform counts. MDE is currently in the process of having a Total Maximum Daily Load (TMDL) model calculated for the above listed substances. The St. Martin's River, a large freshwater tributary leading to the Isle of Wight Bay, along with Herring and Turville Creeks are currently listed as “restricted for shellfish harvest” by MDE as well.

There is one wastewater treatment plant, located within the residential community of Ocean Pines, that discharges treated effluent into the Isle of Wight Bay. The Ocean City Wastewater Treatment Plant in Ocean City discharges treated effluent several miles offshore into the Atlantic Ocean.

Information submitted in the application states that there are a total of nine pumpout facilities currently in the northern Coastal Bays, of which five provide portable toilet disposal through the use of a wand attachment to the pumpout hose or at dump stations. Eight of the nine pumpout facilities that are available to the general public, as well as all facilities that provide portable toilet disposal are located at six marinas. Each of the six marinas is a privately owned facility; four used Clean Vessel Act (75%) and state funds (25%) to install their pumpouts. These four marinas are limited to charging no more than $5.00 per pumpout. One of the nine pumpouts is located at a marina that is only available to slipholders. To provide a conservative estimate of pumpout availability, this private pumpout was not included in the application's calculations. Also not included was one additional marina that applied for grant funding to install a pumpout which should become operational during the 2002 boating season. For the purposes of this application, therefore, there are a total of eight pumpouts in the northern Coastal Bays, of which five provide portable toilet disposal via a wand attachment or a dump station. Maryland's boating season is generally considered to be from April 15 to November 15, with very little recreational boating activity occurring in the winter. For the few boats in the northern Coastal Bays that may need to be pumped out in the off-season, Advanced Marina's pumpout is open throughout the year. The other pumpouts are generally open during the boating season only. Details of these facilities' location, availability and hours of operation are as follows:

Advanced Marina is a 60-slip marina located at 66th St., Ocean City on Isle of Wight Bay. The marina has a portable pumpout unit and potty wand attachment for emptying portable toilets. The marina's sewage disposal hours of operation are 8:00am-8:00pm seven days per week, all year.

Harbour Island Marina is a 110-slip marina located at 14th St., Ocean City on Isle of Wight Bay. The marina has one fixed pumpout unit at the entrance to the marina and one potty wand attachment for emptying portable toilets. The marina's sewage disposal hours of operation are 6:00am-8:00pm seven days per week, from May through September.

Ocean City Fishing Center is a 240-slip marina located near the Route 50 bridge in West Ocean City on the Isle of Wight Bay. The marina has one fixed pumpout unit located next to the marina office. The marina's sewage disposal hours of operation are 5:00am-8:00pm seven days per week, from May through September.

Ocean Pines Marina is an 86-slip marina located near the Route 90 bridge in Ocean Pines on the St. Martins River. The marina has one fixed pumpout located at the end of pier A. The marina's sewage disposal hours of operation are 8:00am-6:00pm Monday through Friday, 7:00am-7:00pm Saturday and 7:00am-6:00pm Sunday, from May through October.

Sunset Marina is a 204-slip marina located at the Ocean City Inlet in West Ocean City on Isle of Wight Bay. The marina has one fixed pumpout with two remote stands, each at the end of successive piers, one portable unit with potty wand attachment for emptying portable toilets, and one dump station on the bulkhead. The marina's sewage disposal hours of operation are 9:00am-5:00pm seven days per week, from May through September.

Townes of Nantucket II is a 92-slip marina located at Nantucket Point near the Delaware state line in Ocean City on Assawoman Bay. The marina has one fixed pumpout and one dump station for portable toilets, both located at the “A” bulkhead. The marina's sewage disposal hours of operation are 24 hours a day, seven days per week, from April through October.

Marinas participating in the Maryland Pumpout Program are required by law (Natural Resources Article § 8-707) to have an approved method of sewage disposal as determined by MDE and local (county or municipal) health inspectors. Four of the six marinas participated in the Maryland Pumpout Program, and therefore are in compliance with state and Federal laws. Information about the removal of pumpout waste from the other two marinas was obtained through marina surveys. Of the six marinas described above, five discharge to the Ocean City Wastewater Treatment Plant; the remaining marina discharges to the Ocean Pines Wastewater Treatment Plant.

The MDNR maintains records of all documented and registered boats in the state. In order to estimate the number of transient boaters, several methods were employed. First a marina survey was conducted where marina owners were asked to estimate the percentage of transient boaters that utilize their facility and the northern Coastal Bays. Second, information collected from a 1999 aerial survey of the northern Coastal Bays, conducted by the MDNR Fisheries Department, was used to determine types and sizes of boats using the waters on a peak day in-season. Finally, a land survey was conducted where MDNR employees surveyed Coastal Bay vessel usage on a typical day during the season. All of these methods were employed to come up with a best estimate for transient usage. It was estimated, using the above techniques, that Ocean City/northern Coastal Bays have approximately 10,000 wet slips. It was also assumed that the transient boat population mirrored the resident population as far as relative percent of the size and numbers of boats. Based on this information the vessel population of the northern Coastal Bays based on length is 2,800 vessels less than 16 feet, 6,600 vessels between 16 and 26 feet, 600 vessels between 26 and 40 feet, and 100 vessels over 40 feet. Based on the number and size of boats, and using various methods to estimate the number of holding tanks and portable toilets, it was determined that the northern Coastal Bays need three pumpouts and five dump stations. There are currently eight operating pumpouts and one proposed pumpout in the northern Coastal Bays along with two dump stations and three pumpouts equipped to empty portable toilets making a total of five portable toilet waste facilities. There is also one proposed pumpout that would accept portable toilets by the start of the next boating season in early 2002.

Finding

The EPA hereby makes a final affirmative determination that adequate facilities for the safe and sanitary removal and treatment of sewage from all vessels are reasonably available for Herring Bay, Anne Arundel County, Maryland, and the northern Coastal Bays (Ocean City Inlet, Ocean City commercial fish harbor (Swordfish Basin), Isle of Wight Bay and Assawoman Bay), Worcester County, Maryland. This final determination will result in a Maryland state prohibition of any sewage discharges, whether treated or not, from vessels into Herring Bay and the northern Coastal Bays.

Donald S. Welsh,
Regional Administrator, Region III.

[FR Doc. 02-627 Filed 1-9-02; 8:45 am]

BILLING CODE 6560-50-P